ENVIRONMENT PROTECTION AGENCY

[ER-FRL-6608-6]

Environmental Impact Statements; Notice of Availability

Responsible Agency: Office of Federal Activities, General Information (202) 564-7167 www.epa.gov/oeca/ofa.

Weekly receipt of Environmental Impact Statements

Filed June 19, 2000 Through June 23, 2000

Pursuant to 40 CFR 1506.9.

EIS No. 000201, Draft EIS, AFS, ID, Myrtle-Cascade Projected, Implementation of Resource Management Activities, Idaho Panhandle National Forests, Bonners Ferry Ranger District, Boundary County, ID, Due: August 14, 2000, Contact: Pat Behresn (208) 267-6743.

EIS Nl. 000202, Final EIS, COE, AZ, Tres Rios Feasibility Study Project, Ecosystem Restoration, Located at the Salt, Gila and Agua Fria Rivers, City of Phoenix, Maricopa County, AZ, Due: July 31, 2000, Contact: Alex Watt (213) 452-3860.

EIS No. 000203, Final EIS, IBR, NB, KS, Republican River Basin Long-Term Water Supply Contract Renewals for Five Irrigation Districts, Frenchman-Cambridge, Frenchman Valley and Bostwick Irrigation District in Nebraska and Bostwick No. 2 and Almena Irrigation Districts on Kansas, NB and KS, Due: July 31, 2000, Contact: Jill Manring (308) 389-4557.

EIS No. 000204, Final EIS, COE, TX, Programmatic EIS-Upper Trinity River Basin Feasibility Study, To Provide Flood Damage Reduction, Environmental Restoration, Water Quality Improvement and Recreational Enhancement, Trinity River, Dallas-Fort Worth Metroplex, Dallas, Denton and Tarrant Counties, TX, Due: July 31, 2000, Contact: Gene T. Rice (817) 978-2110.

EIS No. 000205, Final EIS, FHW, CA, CA-238 Construction, near Industrial Parkway to CA-238/I-580 Interchange, Funding, and 404 Permit, City of Hayward, Alameda County, CA, Due: July 31, 2000, Contact: robert F. Tally (916) 498-5020.

EIS No. 000206, Final Supplement, FHW, VA, DC, MD, Woodrow Wilson Bridge Improvements, Updated Information concerning the Changes and Discusses in differences between Alternative 4A of the September 1997 FEIS and Current Design Alternative 4A, I-95/I-495 (Captial Beltway), Telegraph Road to MD-210, Funding, COE Section 10 and 404 Permits and CGD Bridge Permit Issuance, City of, Due: July 31, 20009, Contact: Eugene Keller (202) 482-7251.

EIS No. 000207, Draft EIS, FHW, WA, Southeast Issaquah Bypass, Construction Connecting Issaquah-Hobart Road in the South with I-90 at the Sunset Interchange, Right-of-Way Permit, NPDES Permit and COE Section 404 Permit, King County, WA, Due: August 15, 2000, Contact: Don Petersen (360)( 753-9413.

EIS No. 000208, Draft EIS, COE, WA, Programmatic EIS—Green/Duwamish River Basin Restoration Program, Capitol Improvement Type Program and Ecological Health, King County, WA, Due: August 14, 2000, Contact: Patrick Cagney (206) 764-6577.

EIS No. 000209, Draft EIS, COE, CA, Whitewater River Basin (Thousand Palms) Flood Control Project, Construction of Facilities to Provide Flood Protection, Coachella Valley, Riverside County, CA, Due: August 14, 2000, Contact: Hayley Lovan (213) 452-3863.

EIS No. 000210, Draft EIS, COE, CA Upper Newport Bay Restoration Project, To Develop a Long-Term Management Plan to Control Sediment Deposition, Orange County, CA, Due: August 14, 2000. Contact: Larry Smith (213) 452-3846.

EIS No. 000211, Revised Draft EIS, COE, AZ, Rio de Flag Flood Control Study, Improvement and Flood Protection, To Reduce Damages to Residential Commercial, Industrial and Historic Property, City of Flagstaff, Coconino County, AZ, Due: August 14, 2000, Contact: David Compas (213) 452-3850.

EIS No. 000212, Final EIS, FHW, NM, New Mexico Forest Highway 45 (Forest Road 537) known locally as the Sacramento River Road, Improvements from Sunspot to Timberon, Otero County, NW, Due: July 31, 2000, Contact: Robert Nestel (303) 716-2142.

EIS No. 000213, Draft EIS, IBR, AZ, Central Arizona Project (CAP), Allocation of Water Supply and Long-Term Contract Execution, Maricopa, Pinal and Pima Counties, AZ, Due: August 25, 2000, Contact: Sandra Eto (602) 216-3857.

EIS No. 000214, Draft EIS, UAF, WY, F.E. Warren Air Force Base Deactivation and Dismantlement of the Peacekeeper Missile System, To Comply with the Strategic Arms Reduction Treaty (START), Laramie, Platte and Goshen Counties, WY, Due: August 14, 2000, Contact: Lee Schoenecker (703) 604-0552.

EIS No. 000215, Final EIS, DOE, TN, Treating Transuranic (TRU)/Alpha Low-Level Waste at the Oak Ridge National Laboratory, Construct, Operate, and Decontaminate/Decommision of Waste Treatment Facility, Oak Ridge, TN Due: July 21, 2000, Contact: Clayton Gist (865) 241-3498.

EIS No. 000216, Draft EIS, AFS, ID, West Mountain North Project, Timber Harvest, Road Construction and Reconstruction), Boise National Forest, Cascade Ranger District, Valley County, ID, Due: August 14, 2000, Contact: David D. Rittenhouse (208) 373-4100.

EIS No. 000217, Draft EIS, FHW, NB, Antelope Valley Study, Implementation of Stormwater Management, Transportation Improvements and Community Revitalization, Major Investment Study, City of Lincoln, Lancaster County, NB, Due: August 15, 2000, Contact: Edward Kosola (402) 437-5973.

EIS No. 000218, Final EIS, DOE, FL, JEA Circulating Fluidized Bed (CFB) Combustor Project, 300 Megawatt-Electric, Coal and Petroleum Coke-Fired, CFB Combustor and Boiler to Repower an existing Steam Turbine at JEA's Northside Generating Station Construction and Operation, Funding, Jacksonville, Duval County, FL, Due: July 31, 2000, Contact Lisa K. Hollingworth (304) 285-4992.

Amended Notices

EIS No. 000111, Draft EIS, SFW, NV, Stillwater National Wildlife Refuge Complex Comprehensive Conservation Plan and Boundary Revision, Implementation, Churchill and Washoe Counties, NV, Due: July 12, 2000, Contact: Don DeLong (916) 414-6500. Revision of FR notice published on 04/21/2000: CEQ Comment Date has been Extended from 06/12/2000 to 07/12/2000.

EIS No. 000184, Draft EIS, COE, MS, TN, MS, TN, Wolf River Ecosystem Restoration, Memphis, Tennessee Feasibility Study, Marshall, Benton and Tippah Counties, MS and Shelby, Fayette and Harderman, TN, Due: July 31, 2000, Contact: Richard Hite (901) 544-0706. Published FR-06-16-00—Correction to Title.

EIS No. 000187, Fianl Supplement, NOA, Atlantic Tunas, Swordfish and Sharks, Highly Migratory Species Fishery Management Plan, Due: July 17, 2000, Contact: Rebecca Lent (301) 713-2347. Published FR 06-16-00 Correction to Phone Number.

Dated: June 27, 2000.
Joseph C. Montgomery,
Director, NEPA Compliance Division, Office of Federal Activities.

[FR Doc. 00-16656 Filed 6-29-00; 8:45 am]

BILLING CODE 6560-50-M